COMMISSION ON CIVIL RIGHTS

Notice of Public Meeting of the Texas Advisory Committee

AGENCY: U.S. Commission on Civil Rights.

ACTION: Announcement of meetings.

SUMMARY: Notice is hereby given, pursuant to the provisions of the rules and regulations of the U.S. Commission on Civil Rights (Commission) and the Federal Advisory Committee Act (FACA) that the Texas Advisory Committee (Committee) will hold a series of meetings via Webex on Wednesday, November 3, 2021 and Wednesday, December 8, 2021 at 12:00 p.m. Central Time for the purpose of discussing their first Committee topic.

DATES: These meetings will be held on:

• Wednesday, November 3, 2021, from 12:00 p.m.-1:00 p.m. CT

• Wednesday, December 8, 2021, from 12:00 p.m.-1:00 p.m. CT

Public Webex Registertion Link:

• Wednesday, November 3rd: https://tinyurl.com/s6ww7mkh

• Wednesday, December 8th: https://tinyurl.com/npynfny9

FOR FURTHER INFORMATION CONTACT: Brooke Peery, Designated Federal Officer (DFO) at bpeery@usccr.gov or by phone at (202) 701-1376. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Brooke Peery (DFO) at bpeery@usccr.gov.

Records and documents discussed during the meeting will be available for public viewing prior to and after the meeting at https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome & Introductions

II. Discussion

III. Public Comment

IV. Adjournment

Dated: October 15, 2021.
David Mussatt,
Supervisory Chief, Regional Programs Unit.

[FR Doc. 2021-22848 Filed 10-19-21; 8:45 am]

BILLING CODE 6335-01-P